DEPARTMENT OF HEALTH AND HUMAN SERVICES

Centers for Disease Control and Prevention (CDC)

Advisory Committee on Childhood Lead Poisoning Prevention (ACCLPP)

In accordance with section 10(a)(2) of the Federal Advisory Committee Act (Pub. L. 92-463), the CDC, National Center for Environmental Health (NCEH) announces the following meeting of the aforementioned committee:

Times and Dates: 2:00 p.m.-4:30 p.m., July 25, 2013

Place: Teleconference.

Status: The meeting is open to the public, limited only by the conference lines available; the toll free dial-in number is 1-888-554-6025 with a passcode of 2785801.

Purpose: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters To Be Discussed: Agenda items will include the following: Program Update; Presentation of ACCLPP Laboratory Report on “Guidelines for Measuring Lead in Blood Using Point of Care Instruments” and Discussion, ACCLPP Comments, Discussion and Vote on Laboratory Workgroup Report. (In 2009 the Laboratory Workgroup was established and charged by ACCLPP with conducting a review of five laboratory issues. The second of these five issues was to address the need for recommended standards of practice for those using point of care blood lead testing. The report to be presented to the ACCLPP at this meeting is the result of that review.)

Agenda items are subject to change as priorities dictate.

SUPPLEMENTARY INFORMATION: The public comment period is scheduled on July 25, 2013 from 4:15 p.m. until 4:30 p.m.

Contact Person for More Information: Sandra Malcom, Committee Management Specialist, NCEH/ATSDR, 4770 Buford Highway, Mail Stop F-61, Chamblee, Georgia 30345; telephone 770/488-0577, Fax: 770/488-3377; Email: smalcom@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-16181 Filed 7-5-13; 8:45 am]

BILLING CODE 4163-18-P